OFFICE OF PERSONNEL MANAGEMENT

5 CFR Part 532

RIN 3206--AM38

Prevailing Rate Systems; Abolishment of Cumberland, ME, as a Nonappropriated Fund Federal Wage System Wage Area

AGENCY: U.S. Office of Personnel Management.

ACTION: Final rule.

SUMMARY: The U.S. Office of Personnel Management is issuing a final rule to abolish the Cumberland, Maine, nonappropriated fund (NAF) Federal Wage System (FWS) wage area and redefine Cumberland, Kennebec, and Penobscot Counties, ME, to the York, ME, NAF wage area. Aroostook, Hancock, Knox, Sagadahoc, and Washington Counties, ME, will no longer be defined. These changes are necessary because the closure of the Naval Air Station Brunswick left the Cumberland wage area without an activity having the capability to conduct a local wage survey.

DATES: Effective date: This regulation is effective on November 14, 2011. Applicability date: This regulation applies on the first day of the first applicable pay period beginning on or after July 25, 2011.

FOR FURTHER INFORMATION CONTACT: Madeline Gonzalez, (202) 606-2838; email pay-leave-policy@opm.gov; or FAX: (202) 606-4264.

SUPPLEMENTARY INFORMATION: On June 2, 2011, the U.S. Office of Personnel Management (OPM) issued an interim rule (76 FR 31785) to abolish the Cumberland, Maine, nonappropriated fund (NAF) Federal Wage System (FWS) wage area and redefine Cumberland, Kennebec, and Penobscot Counties, ME, to the York, ME, NAF wage area. The Federal Prevailing Rate Advisory Committee, the national labor-management committee responsible for advising OPM on matters concerning the pay of FWS employees, reviewed and recommended these changes by consensus. The interim rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, under the authority of 5 U.S.C. 5343, the interim rule published on June 2, 2011, amending 5 CFR part 532 (76 FR 31785) is adopted as final with no changes.

[FR Doc. 2011-29349 Filed 11-10-11; 8:45 am]

BILLING CODE 6325-39-P